COMMITTEE FOR PURCHASE FROM PEOPLE WHO ARE BLIND OR SEVERELY DISABLED

Procurement List; Proposed Additions

AGENCY: Committee for Purchase From People Who Are Blind or Severely Disabled.

ACTION: Proposed additions to the Procurement List.

SUMMARY: The Committee is proposing to add service(s) to the Procurement List that will be furnished by nonprofit agencies employing persons who are blind or have other severe disabilities.

DATES: Comments must be received on or before: October 22, 2023.

ADDRESSES: Committee for Purchase From People Who Are Blind or Severely Disabled, 355 E Street SW, Suite 325, Washington, DC 20024.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the service(s) listed below from nonprofit agencies employing persons who are blind or have other severe disabilities.

The following service(s) are proposed for addition to the Procurement List for production by the nonprofit agencies listed:

Service(s)

Service Type: Enterprise Services Center Support.

Mandatory for: NASA, NASA Shared Services Center, Stennis Space Center, MS.

Designated Source of Supply: InspiriTec, Inc., Philadelphia, PA.

Contracting Activity: National Aeronautics and Space Administration, NASA Shared Services Center.

Service Type: Janitorial Service.

Mandatory for: Federal Aviation Administration, Air Traffic Control Tower, North Charleston, SC.

Designated Source of Supply: Palmetto Goodwill Services, North Charleston, SC.

Contracting Activity: Federal Aviation Administration, 697DCK Regional Acquisitions Svcs.

Michael R. Jurkowski,
Acting Director, Business Operations.

[FR Doc. 2023-20539 Filed 9-21-23; 8:45 am]

BILLING CODE 6353-01-P